DEPARTMENT OF STATE

[Public Notice 6421]

Review of Foreign Terrorist Organization Designation for Liberation Tigers of Tamil Eelam, Also Known as LTTE, Also Known as Tamil Tigers, Also Known as Ellalan Force

Pursuant to section 219(a)(4)(C) of the Immigration and Nationality Act, as amended (8 U.S.C. 1189(a)(4)(C)), the Department of State is undertaking a review of the designation of the above-named group as a Foreign Terrorist Organization. In making its determination, the Department of State will accept a written statement or other documentary materials submitted on behalf of the above-named organization by its representatives. Any such materials will be considered in the review process and included in the administrative record. Such materials must be submitted by November 10, 2008, to: The Coordinator for Counterterrorism, United States Department of State, 2201 C Street, NW., Washington, DC 20520.

This notice shall be published in the Federal Register.

Dated: October 29, 2008.
Dell L. Dailey,
Coordinator for Counterterrorism, Department of State.

[FR Doc. E8-26260 Filed 11-3-08; 8:45 am]

BILLING CODE 4710-10-P